ENVIRONMENTAL PROTECTION AGENCY

40 CFR Chapter I

[EPA-HQ-OPPT-2011-1019; FRL-9912-42]

RIN 2070-AJ93

Hydraulic Fracturing Chemicals and Mixtures; Extension of Comment Period

AGENCY: Environmental Protection Agency (EPA).

ACTION: Advance notice of proposed rulemaking; extension of comment period.

SUMMARY: EPA issued an advance notice of proposed rulemaking in the Federal Register of May 19, 2014, concerning hydraulic fracturing chemicals and mixtures. This document extends the comment period for 30 days, from August 18, 2014, to September 18, 2014. EPA is taking this action in response to requests for an extension to allow interested persons additional time to submit comments.

DATES: Comments, identified by docket identification (ID) number EPA-HQ-OPPT-EPA-HQ-OPPT-2011-1019, must be received on or before September 18, 2014.

ADDRESSES: Follow the detailed instructions provided under ADDRESSES in the Federal Register document of May 19, 2014 (79 FR 28664) (FRL-9909-13).

FOR FURTHER INFORMATION CONTACT:

For technical information contact: Mark Seltzer, Chemical Control Division (7405M), Office of Pollution Prevention and Toxics, Environmental Protection Agency, 1200 Pennsylvania Ave. NW., Washington, DC 20460-0001; telephone number: (202) 564-2901; email address: seltzer.mark@epa.gov.

For general information contact: The TSCA-Hotline, ABVI-Goodwill, 422 South Clinton Ave., Rochester, NY 14620; telephone number: (202) 554-1404; email address: TSCA-Hotline@epa.gov.

SUPPLEMENTARY INFORMATION: This document extends the public comment period established in the Federal Register document of May 19, 2014. In that document, the Agency requests comment on the information that should be reported or disclosed for hydraulic fracturing chemical substances and mixtures and the mechanism for obtaining this information. This mechanism could be regulatory (under the Toxic Substances Control Act (TSCA) section 8(a) and/or section 8(d)), voluntary, or a combination of both and could include best management practices, third-party certification and collection, and incentives for disclosure of this information. In addition, the Agency is seeking comment on ways of minimizing reporting burdens and costs and of avoiding the duplication of State and other Federal agency information collections, while at the same time maximizing data available for EPA risk characterization, external transparency, and public understanding. Also, EPA is soliciting comments on incentives and recognition programs that could be used to support the development and use of safer chemical substances and mixture in hydraulic fracturing. EPA is hereby extending the comment period, which was set to end on August 18, 2014, to September 18, 2014.

To submit comments, or access the docket, please follow the detailed instructions provided under ADDRESSES in the Federal Register document of May 19, 2014. If you have questions, consult the technical person listed under FOR FURTHER INFORMATION CONTACT.

List of Subjects in 40 CFR Chapter I

Environmental protection, Chemicals, Confidential business information, Exploration and production, Fracking, Hazardous substances, Hydraulic fracturing, Oil and gas, Reporting and recordkeeping requirements.

Dated: July 7, 2014.
James Jones,
Assistant Administrator, Office of Chemical Safety and Pollution Prevention.

[FR Doc. 2014-16460 Filed 7-11-14; 8:45 am]

BILLING CODE 6560-50-P